DEPARTMENT OF TRANSPORTATION

Surface Transportation Board

Release of Waybill Data

The Surface Transportation Board (Board) has received a subpoena duces tecum in a court proceeding [Asphalt Busters, Inc. v. Chemical Lime Company, et al., No. CV-01-0269-PHX-ROS (D. Ariz.)] for access to confidential data from the Board's 1999 and 2001 Carload Waybill Samples for STCC Code 32741 (Lime or Lime Plaster). Any such access obtained in the matter would be subject to a protective order issued August 9, 2001, in the court proceeding.

The waybill sample contains confidential railroad and shipper data; therefore, if any parties object to release of the data under the conditions prescribed in the confidentiality order, they should file their objections with the Director of the Board's Office of Economics, Environmental Analysis, and Administration within 14 calendar days of the date of this notice. In determining whether to resist the subpoena, the Board will be guided by its rules for release of waybill data codified at 49 CFR 1244.9.

Contacts: James A. Nash, (202) 565-1542, Waybill issues. Craig M. Keats, (202) 565-1564, Legal issues.

Vernon A. Williams,
Secretary.

[FR Doc. 03-21032 Filed 8-15-03; 8:45 am]

BILLING CODE 4915-00-P